DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed local bridge project, the 6th Street Viaduct Seismic Improvement Project in downtown Los Angeles over the Los Angeles River (Bridge No. 53C-1880) and the 6th Street Viaduct Overcrossing, which spans the US 101 Hollywood Freeway (Bridge No. 53-0595) in Los Angeles County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 8, 2013 If the Federal law that authorizes judicial review of a claim provides a time period of less than 150 days for filing such claim, then that shorter time period still applies.

FOR FURTHER INFORMATION CONTACT: For Caltrans: Carlos Montez, Senior Environmental Planner, Division of Environmental Analysis, California Department of Transportation, 100 S. Main St., Los Angeles, CA 900012, Regular Office Hours 8:00 a.m. to 5:00 p.m., Telephone number 213-897-9116, email carlos_montez@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: The proposed project would replace the existing 6th Street Viaduct over the Los Angeles River and the overcrossing, which also spans the US 101 Hollywood Freeway. The purpose of this project is to reduce the vulnerability of the structure in a major earthquake event and resolve design deficiencies. The project will take approximately four years to complete. The FHWA project reference number is 5006 (342). The actions by the Federal agencies, and the laws under which such actions were taken, are described in the Final Environmental Impact Statement (FEIS) for the project, approved on October 5, 2011, in the FHWA Record of Decision (ROD) issued on December 21, 2011, and in other documents in the FHWA project records. The FEIS, ROD, and other project records are available by contacting Caltrans at the addresses provided above. The Caltrans FEIS and ROD can be viewed and downloaded from the project web site at http://www.dot.ca.gov/dist07/resources/envdocs/. This notice applies to all Federal agency decisions as of the issuance date of this notice and all laws under which such actions were taken, including but not limited to

1. National Environmental Policy Act (NEPA)

2. Safe, Accountable, Flexible and Efficient, Transportation Equity Act, A Legacy for Users (SAFETEA-LU)

3. MAP 21—Moving Ahead for Progress in the 21st Century

4. Title VI of the Civil Rights Act of 1964

5. National Historic Preservation Act of 1966

6. Executive Order 12898, Federal Actions to Address Environmental Justice in Minority Populations and Low-Income Populations

7. Section 4(f) of the Transportation Act of 1966

(Catalog of Federal Domestic Assistance Program Number 20.205, Highway Planning and Construction. The regulations implementing Executive Order 12372 regarding intergovernmental consultation on Federal programs and activities apply to this program.)

Authority: 23 U.S.C. 139(l)(1).

Carlos J. Montez,
Branch Chief, Division of Environmental Planning, District 7, California Department of Transportation.

[FR Doc. 2012-27240 Filed 11-6-12; 8:45 am]

BILLING CODE 4910-22-P